DEPARTMENT OF ENERGY

Federal Energy Regulatory Commission

Combined Notice of Filings

Take notice that the Commission has received the following Natural Gas Pipeline Rate and Refund Report filings:

Filings Instituting Proceedings

Docket Numbers: RP13-557-000.

Applicants: Texas Eastern Transmission, LP.

Description: Duke Energy Carolinas 4-1-2013 Neg Rate to be effective 4/1/2013.

Filed Date: 2/12/13.

Accession Number: 20130212-5021.

Comments Due: 5 p.m. e.t. 2/25/13.

Docket Numbers: RP13-558-000.

Applicants: Texas Eastern Transmission, LP.

Description: Duke Energy Carolinas 4-1-2014 Neg Rate to be effective 4/1/2014.

Filed Date: 2/12/13.

Accession Number: 20130212-5022.

Comments Due: 5 p.m. e.t. 2/25/13.

Docket Numbers: RP13-559-000.

Applicants: Texas Eastern Transmission, LP.

Description: Duke Energy Carolinas 4-1-2015 Neg Rate to be effective 4/1/2015.

Filed Date: 2/12/13.

Accession Number: 20130212-5023.

Comments Due: 5 p.m. e.t. 2/25/13.

Docket Numbers: RP13-560-000.

Applicants: Texas Eastern Transmission, LP.

Description: Duke Energy Carolinas 4-1-2016 Neg Rate to be effective 4/1/2016.

Filed Date: 2/12/13.

Accession Number: 20130212-5024.

Comments Due: 5 p.m. e.t. 2/25/13.

Docket Numbers: RP13-561-000.

Applicants: Texas Eastern Transmission, LP.

Description: Duke Energy Carolinas 4-1-2017 Neg Rate to be effective 4/1/2017.

Filed Date: 2/12/13.

Accession Number: 20130212-5025.

Comments Due: 5 p.m. e.t. 2/25/13.

Docket Numbers: RP13-562-000.

Applicants: Northern Natural Gas Company.

Description: Northern Natural Gas Company submits Notice of Penalty and DDVC Revenue Crediting Report.

Filed Date: 2/12/13.

Accession Number: 20130212-5072.

Comments Due: 5 p.m. e.t. 2/25/13.

Docket Numbers: RP13-563-000.

Applicants: Dominion South Pipeline Company, LP.

Description: DSP—Tariff Cancellation to be effective 3/13/2013.

Filed Date: 2/12/13.

Accession Number: 20130212-5125.

Comments Due: 5 p.m. e.t. 2/25/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP11-1631-002.

Applicants: Energy West Development, Inc.

Description: Compliance to 147 to be effective 12/1/2012.

Filed Date: 2/12/13.

Accession Number: 20130212-5073.

Comments Due: 5 p.m. e.t. 2/25/13.

Docket Numbers: RP13-116-002.

Applicants: MIGC LLC.

Description: 2nd Revised NAESB v2.0 Compliance Filing to be effective 12/1/2012.

Filed Date: 2/13/13.

Accession Number: 20130213-5000.

Comments Due: 5 p.m. e.t. 2/25/13.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: February 13, 2013.
Nathaniel J. Davis, Sr.,
Deputy Secretary

[FR Doc. 2013-04076 Filed 2-21-13; 8:45 am]

BILLING CODE 6717-01-P